DEPARTMENT OF HEALTH AND HUMAN SERVICES

Centers for Disease Control and Prevention

Disease, Disability, and Injury Prevention and Control Special Emphasis Panel (SEP); Provider and Public Health Input for Vaccine Policy Decisions, Potential Extramural Project (PEP), 2007-R-04

In accordance with Section 10(a)(2) of the Federal Advisory Committee Act (Pub. L. 92-463), the Centers for Disease Control and Prevention (CDC) announces the aforementioned meeting.

Time and Date: 12 p.m.-1:30 p.m., July 18, 2007 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to PEP 2007-R-04, “Provider and Public Health Input for Vaccine Policy Decisions.”

Due to programmatic issues that had to be resolved, the Federal Register notice is being published less than fifteen days before the date of the meeting. This panel will reconvene to review applications that were not submitted for inclusion in the review process. The date for these panels had to be moved to a time when all panel members were available and with enough time to conduct secondary review and make appropriate funding decisions before the end of the fiscal year.

For Further Information Contact:

Christine J. Morrison, PhD, Scientific Review Administrator, Office of the Chief Science Officer, CDC, 1600 Clifton Road, NE., Mailstop D-72, Atlanta, GA 30333, Telephone (404) 639-3098.

The Director, Management Analysis and Services Office, has been delegated the authority to sign Federal Register notices pertaining to announcements of meetings and other committee management activities, for both CDC and the Agency for Toxic Substances and Disease Registry.

Edward Schultz,
Acting Director, Management Analysis and Services Office, Centers for Disease Control and Prevention.

[FR Doc. E7-13327 Filed 7-9-07; 8:45 am]

BILLING CODE 4163-18-P